DEPARTMENT OF THE INTERIOR

Fish and Wildlife Service

Notice of Intent To Conduct Public Scoping and Prepare an Environmental Impact Statement Regarding the Southern Nye County Multiple Species Habitat Conservation Plan, Nye County, NV

AGENCY: Fish and Wildlife Service, Interior.

ACTION: Notice of intent.

SUMMARY: Pursuant to the National Environmental Policy Act (NEPA) (42 U.S.C. 4321, et seq.), the Fish and Wildlife Service (Service) as the lead agency, advises the public that we intend to gather information necessary to prepare an Environmental Impact Statement (EIS) regarding the proposed Southern Nye County Multiple Species Habitat Conservation Plan (MSHCP) and issuance of an incidental take permit (Permit) for endangered and threatened species in accordance with section 10(a)(1)(B) of the Endangered Species Act of 1973, as amended (Act). Nye County (Applicant) proposes to accommodate anticipated urban development within the Mojave Desert region of southern Nye County and implement conservation measures (Project). The Applicant intends to request a Permit for incidental take of several listed and unlisted species, including the desert tortoise (Gopherus agassizii), a species federally listed as threatened under the Act. The Service plans to refine the species list as a part of the scoping process. In accordance with the Act, the Applicant will prepare an MSHCP containing proposed measures to minimize and mitigate incidental take that could result from the Project.

The Service provides this notice to: (1) Describe the proposed action and possible alternatives; (2) advise other Federal and State agencies, affected tribes, and the public of our intent to prepare an EIS; (3) announce the initiation of a 30-day public scoping period; and (4) obtain suggestion and information on the scope of issues to be included in the EIS.

DATES: Public scoping meetings will be held: Monday, December 4, 2006, from 4 p.m. to 6 p.m. and Tuesday, December 5, 2006, from 4 p.m. to 6 p.m. Written comments from all interested parties must be received on or before December 21, 2006.

ADDRESSES: The public meeting will be held at the following location: Monday, December 4, 2006, at the Bob Ruud Community Center, 150 North Highway 160, Pahrump, NV 89060. Tuesday, December 5, 2006, at the Beatty Community Center, 100 A Avenue South, Beatty, NV 89003.

Comments and requests for information related to the preparation of the EIS should be sent to Robert D. Williams, Field Supervisor, Fish and Wildlife Service, Nevada Fish and Wildlife Office, 1340 Financial Boulevard, Suite 234, Reno, Nevada 89502; or FAX 775-861-6301.

Comments and materials received will be available for public inspection, by appointment, during normal business hours at the above address.

FOR FURTHER INFORMATION CONTACT: Jeri Krueger, Fish and Wildlife Biologist, Fish and Wildlife Service, Southern Nevada Field Office, 4701 N. Torrey Pines Drive, Las Vegas, Nevada, 89130, at 702-515-5230.

SUPPLEMENTARY INFORMATION: Persons needing reasonable accommodations in order to attend and participate in the public meetings should contact Jim Marble, Nye County, Natural Resources Director, P.O. Box 153, Tonopah, Nevada, 89049 at 775-482-7238 as soon as possible. In order to allow sufficient time to process requests, please call no later than one week before the public meetings. Information regarding this proposed action is available in alternative formats upon request.

The MSHCP described in this notice includes private, developable lands in southern Nye County only. Nye County is also in the process of developing a short-term desert tortoise Habitat Conservation Plan focusing specifically on Pahrump Valley in concert with the development of the MSHCP. The Applicant's intent is to complete the short-term Habitat Conservation Plan by the end of this year and then incorporate the document into the longer-term MSHCP.

The Applicant has initiated discussions with the Service regarding preparation of an MSHCP and the potential issuance of a Permit for their activities, which includes planned development and maintenance activities, utility and infrastructure development and maintenance, roadway construction and maintenance, and recreation. The Applicant has also initiated discussions with the U.S. Bureau of Land Management (BLM) regarding implementation of conservation actions on adjacent federally owned lands. The planning area encompasses the southern portion of Nye County, Nevada, within the Mojave Desert region. It consists of approximately 850,900 acres of land administered by the BLM, and approximately 131,890 acres of developable private land in Nye County. The area is bordered by the Nellis Air Force Range and Nevada Test Site to the north, the Humboldt-Toiyabe National Forest to the east, and the California/Nevada state line to the west. The small amount of private land available for urban development is associated with the towns of Pahrump, Amargosa Valley, and Beatty. The surrounding land is primarily owned and managed by BLM.

Some of the Applicant's future activities have the potential to impact species subject to protection under the Act. Section 10 (a)(1)(B) permits non-Federal land owners to take endangered and threatened wildlife species, provided the take is incidental to otherwise lawful activities and will not appreciably reduce the likelihood for the survival and recovery of the species in the wild, as well as other permit conditions. An applicant for a Permit under section 10 must prepare and submit to the Service for approval a Plan containing a multifaceted strategy for minimizing and mitigating the impacts of all take associated with the proposed activities to the maximum extent practicable. The applicant must also ensure that adequate funding for the Plan will be provided.

The Service will conduct an environmental review of the MSHCP and prepare an EIS. ENTRIX has been selected as the lead consultant to prepare the EIS under the supervision of the Service. NEPA requires that Federal agencies conduct an environmental analysis of their proposed actions to determine if the actions may significantly affect the human environment. Under NEPA, a reasonable range of alternatives to proposed projects is developed and considered in the environmental review. Alternatives considered for analysis in an EIS may include: variations in the scope of proposed activities; variations in the location, amount, and types of conservation measures; variations in activity duration; or a combination of these elements. In addition, the EIS will identify potentially significant direct, indirect, and cumulative impacts on biological resources, land use, air quality, water quality, water resources, socioeconomic conditions, and other environmental issues that could occur with implementation of the proposed action and alternatives. For all potentially significant impacts, the EIS identifies avoidance, minimization, and mitigation measures to reduce these impacts, where feasible, to a level below significance.

The EIS will consider the proposed action, no action, and a reasonable range of alternatives. A detailed description of the impacts of the proposed action and each alternative will be included in the EIS. The alternatives to be considered for analysis in the EIS may address combinations of covered species, different permit effective periods, or a combination of elements.

Written comments from interested parties are welcome to ensure that the issues of public concern related to the proposed action are identified. Comments and materials received will be available for public inspection, by appointment, during normal business hours at the office listed in the ADDRESSES section of this notice. All comments and materials received, including names and addresses, will become part of the administrative record and may be released to the public. Public meetings will be held as noted in the DATES section above.

Our practice is to make comments, including names, home addresses, home phone numbers, and email addresses of respondents, available for public review. Individual respondents may request that we withhold their names and /or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

The Service requests that comments be specific. In particular, the Service is requesting information regarding (1) Potential direct, indirect, and cumulative impacts of implementation of the proposed action; (2) other possible alternatives that meet the purpose and need; (3) potential adaptive management and/or monitoring provisions; (4) existing environmental conditions in the area; (5) other plans or projects that might be relevant to this proposed project; and (6) potential minimization and mitigation efforts.

The environmental review of this project will be conducted in accordance with the requirements of the NEPA of 1969 as amended (42 U.S.C. 4321 et seq.), Council on the Environmental Quality Regulations (40 CFR parts 1500-1518), other applicable Federal laws and regulations, and applicable policies and procedures of the Service. This notice is being furnished in accordance with 40 CFR 1501.7 to obtain suggestions and information from other agencies and the public on the scope of issues and alternatives to be addressed in the EIS.

Dated November 8, 2006.
Ken McDermond,
Deputy Manager, California/Nevada Operations Office, Sacramento, California.

[FR Doc. E6-19633 Filed 11-20-06; 8:45 am]

BILLING CODE 4310-55-P